DEPARTMENT OF TRANSPORTATION

Federal Motor Carrier Safety Administration

[Docket No. FMCSA-2007-28117]

Motor Carrier Safety Advisory Committee Public Meeting

AGENCY: Federal Motor Carrier Safety Administration (FMCSA), DOT.

ACTION: Notice of Motor Carrier Safety Advisory Committee Meeting.

SUMMARY: FMCSA announces that the Motor Carrier Safety Advisory Committee (MCSAC) will hold a committee meeting. The meeting is open to the public. Establishment of the advisory committee was announced in the Federal Register (71 FR 67200), on November 20, 2006.

DATES: The MCSAC meeting will be held from 1 p.m. to 4 p.m. on September 13, 2007, and 9 a.m. to 4 p.m. on September 14, 2007.

ADDRESSES: The meeting will take place at the U.S. Department of Transportation, Conference Center, West Wing, First Floor, 1200 New Jersey Avenue, SE., Washington, DC 20590.

FOR FURTHER INFORMATION CONTACT: Mr. Greg Parks, Acting Chief, Strategic Planning and Program Evaluation Division, Office of Policy Plans and Regulation, Federal Motor Carrier Safety Administration, U.S. Department of Transportation, 1200 New Jersey Avenue, SE., Washington, DC 20590, (202) 366-5370, FMCSAregs@dot.gov.

SUPPLEMENTARY INFORMATION:

I. Background

Section 4144 of the Safe, Accountable, Flexible, Efficient Transportation Equity Act: A Legacy for Users (SAFETEA-LU, Pub. L. 109-59) required the Secretary of the U.S. Department of Transportation to establish in FMCSA, a Motor Carrier Safety Advisory Committee. The advisory committee provides advice and recommendations to the FMCSA Administrator on motor carrier safety programs and motor carrier safety regulations. The advisory committee operates in accordance with the Federal Advisory Committee Act (5 U.S.C. App 2). The FMCSA Administrator appointed 15 members to serve on the advisory committee on March 5, 2007.

II. Meeting Participation

The meeting is open to the public and FMCSA invites participation by all interested parties, including motor carriers, drivers, and representatives of motor carrier associations. As a general matter, the committee will make one hour available for public comments on Friday, September 14, 2007, 3 p.m. to 4 p.m. Individuals wishing to address the committee should sign up on the public comment sign-in sheet before noon on September 14, 2007. The time available will be reasonably divided among those who have signed up, but no one will have more than 15 minutes. Individuals wanting to present written materials to the committee should submit written comments identified by DOT Docket Management System (DMC) Docket Number FMCSA-2007-28117 using any of the following methods:

• Web Site: http://dmses.dot.gov/submit. Follow the instructions for submitting comments on the DOT electronic docket site.

• Fax: 202-493-2251.

• Mail: Docket Management Facility; U.S. Department of Transportation, 1200 New Jersey Avenue, SE., Room W12-140, Washington, DC 20590.

• Hand Delivery: U.S. Department of Transportation, 1200 New Jersey Avenue, S.E., Room W12-140, Washington, DC, between 9 a.m. and 5 p.m., Monday through Friday, except Federal holidays.

• Federal eRulemaking Portal: Go to http://www.regulations.gov. Follow the online instructions for submitting comments.

For information on facilities or services for individuals with disabilities or to request special assistance at the meeting, contact Karen Lynch at 202-366-8997, or Karen.Lynch@dot.gov.

Issued on: August 8, 2007.
Larry W. Minor,
Associate Administrator for Policy and Program Development.

[FR Doc. E7-15837 Filed 8-13-07; 8:45 am]

BILLING CODE 4910-EX-P